DEPARTMENT OF EDUCATION

34 CFR Parts 30 and 682

[Docket ID ED-2023-OPE-0123]

RIN 1840-AD93

Student Debt Relief for the William D. Ford Federal Direct Loan Program (Direct Loans), the Federal Family Education Loan (FFEL) Program, the Federal Perkins Loan (Perkins) Program, and the Health Education Assistance Loan (HEAL) Program; Withdrawal

AGENCY: Office of Postsecondary Education, Department of Education.

ACTION: Withdrawal of notice of proposed rulemaking and termination of rulemaking proceeding.

SUMMARY: The U.S. Department of Education (Department) is withdrawing a notice of proposed rulemaking (NPRM) that, under the Secretary's authority to waive repayment of a loan provided by the Higher Education Act of 1965, as amended (HEA), proposed to do the following: amend regulations regarding waiver of certain student loan debts; provide targeted debt relief as part of efforts to address the burden of student loan debt; and modify the Department's existing debt collection regulations to provide greater specificity regarding certain non-exhaustive situations in which the Secretary may exercise discretion to waive all or part of any debts owed to the Department.

DATES: The notice of proposed rulemaking published in the Federal Register at 89 FR 27564 on April 17, 2024, is withdrawn as of December 20, 2024.

FOR FURTHER INFORMATION CONTACT: Tamy Abernathy, U.S. Department of Education, Office of Postsecondary Education, 400 Maryland Avenue SW, 5th Floor, Washington, DC 20202. Telephone: (202) 245-4595. Email: NegRegNPRMHelp@ed.gov.

If you are deaf, hard of hearing, or have a speech disability and wish to access telecommunications relay services, please dial 7-1-1.

SUPPLEMENTARY INFORMATION:

Background

On April 17, 2024, the Department published an NPRM in the Federal Register that, in accordance with the Secretary's authority to waive repayment of a loan provided by section 432(a) of the HEA, would specify the Secretary's discretion to provide debt relief targeted to specific circumstances. See 89 FR 27564. The proposed regulations would modify the Department's existing debt collection regulations to provide greater specificity regarding the Secretary's discretion to waive Federal student loan debt. It would also specify the Secretary's authority to waive all or part of any debts owed to the Department based on a number of different circumstances, such as the following: growth in a borrower's loan balance beyond what was owed upon entering repayment; the amount of time since a loan first entered repayment; whether the borrower is otherwise eligible for loan forgiveness or discharge under existing authority but has not successfully applied; and whether a borrower obtained a loan to attend an institution or program that was subject to secretarial actions to end its title IV eligibility, that closed prior to such secretarial actions, or was associated with closed Gainful Employment programs with high debt-to-earnings rates or low median earnings.

The Department accepted public comments on the NPRM from April 17, 2024 through May 17, 2024. In response to the NPRM, the Department received 148,567 written comments, and the Department has reviewed such comments.

Withdrawal of the Notice of Proposed Rulemaking and Termination of the Rulemaking Proceeding

In accordance with the Secretary's authority under section 432(a) of the HEA to waive repayment of a loan, the Department issued the NPRM to specify the Secretary's discretion to provide targeted debt relief to borrowers facing specific challenges repaying their student loans. The NPRM also proposed revisions to update and clarify various references and provisions in subparts A, C, E, and F of 34 CFR part 30 and proposed to amend part 682 by adding a new § 682.403.

The Department believed clarifying the circumstances in which the Secretary may use the existing and longstanding waiver authority under section 432(a) of the HEA would better inform the public about how the Secretary may exercise this waiver authority in a consistent and equitable manner. Current regulations do not describe how the Secretary uses this waiver authority. We also believed that providing such specificity would allow the Department to highlight circumstances where we are particularly concerned about borrowers' inability to successfully repay their debt in full in a reasonable period, where the Department anticipated that the costs of collection would exceed the amount recoverable, and in circumstances that would implicate equity and fairness.

However, upon further consideration of the operational challenges in implementing the proposals in the NPRM, the Secretary withdraws the NPRM and terminates the rulemaking proceeding.

In making this decision, we considered the Department's ability to implement the proposed rules if they were finalized in a form identical or largely similar to what was included in the NPRM. With the time remaining in this administration, the Department is focused on several priorities including court-ordered settlements and helping borrowers manage the final elements of the return to repayment following the Fall 2024 end of the 12-month on-ramp period designed to assist borrowers who were unable to make their payments or who needed more time to access information to determine the right repayment plan for their circumstances. With the end of the on-ramp period, some borrowers may start becoming delinquent and start down the path to default. Given that many newer borrowers are at risk of default, and many of these borrowers would not have been otherwise affected by the proposed rules in the NPRM, along with the uncertainty around the implementation of the NPRM proposals, at this time the Department intends to commit its limited operational resources to helping at-risk borrowers return to repayment successfully. The Department has also concluded that withdrawing the NPRM will assure agency flexibility in re-examining the issues and exploring options and alternatives with stakeholders in the future. For all of these independently sufficient reasons, the Department is withdrawing this NPRM.

Importantly, the Department is not withdrawing this NPRM and terminating this rulemaking proceeding based upon a changed view of the Secretary's authority under section 432(a) of the HEA, or based upon any preliminary determination about the limitations of such authority. See Missouri v. Biden, No. 24-cv-1316, ECF No. 57 (granting preliminary injunction). Rather, the Department continues to believe that the NPRM is authorized by the Secretary's longstanding and existing authority under the HEA, as explained in the NPRM. See 89 FR 27564.

We do not intend for a final rule to be issued on this NPRM. Were the Department to issue a regulation in this area in the future, it would be bound by the requirements of Section 492(a) and (b) of the HEA, 20 U.S.C. 1098a(a) and (b).

Accessible Format: On request to the program contact person listed under FOR FURTHER INFORMATION CONTACT, individuals with disabilities can obtain this document in an accessible format. The Department will provide the requestor with an accessible format that may include Rich Text Format (RTF) or text format (txt), a thumb drive, an MP3, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF, you must have Adobe Acrobat Reader, which is available free at the site.

You may also access Department documents published in the Federal Register by using the article search feature at www.Federalregister.gov. Specifically, through the advanced search feature at this site, you can limit your search to documents published by the Department.

Miguel Cardona,
Secretary of Education.

[FR Doc. 2024-30606 Filed 12-20-24; 8:45 am]

BILLING CODE 4000-01-P